DEPARTMENT OF LABOR

Employment and Training Administration

[TA-W-58,097]

Agilent Technologies, Inc. Wireless Business Unit a Division of the Electronic Measurements Group Loveland, CO; Notice of Termination of Investigation

Pursuant to section 221 of the Trade Act of 1974, as amended, an investigation was initiated on October 7, 2005, in response to a petition filed by a State agency representative on behalf of workers of Agilent Technologies, Inc., Wireless Business Unit, a division of the Electronics Measurements Group, Loveland, Colorado.

The petitioning group of workers is covered by a current certification (TA-W-57,742J) issued on September 30, 2005, applicable to all workers of Agilent Technologies, Inc., Electronics Measurement Group, Loveland, Colorado. Consequently, further investigation in this case would serve no purpose, and the investigation has been terminated.

Signed at Washington, DC this 20th day of October, 2005.
Linda G. Poole,
Certifying Officer, Division of Trade Adjustment Assistance.

[FR Doc. 05-22328 Filed 11-8-05; 8:45 am]

BILLING CODE 4510-30-P